DEPARTMENT OF HEALTH AND HUMAN SERVICES

Centers for Disease Control and Prevention

[60Day-07-07BE]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Research to Reduce Time to Treatment for Heart Attack/Myocardial Infraction for Rural American Indians/Alaska Natives (AI/AN)—NEW—National Center for Chronic Disease Prevention and Health Promotion (NCCDPHP), Centers for Disease Control and Prevention (CDC).

Background and Brief Description

Every year, approximately 1.1 million Americans have a first or recurrent heart attack/myocardial infarction (MI) and about one third of these will be fatal. Early recognition of MI by both the victim and bystanders followed by prompt cardiac emergency and advanced care has a direct effect on patient outcomes (heart damage, morbidity and mortality): the shorter the delay to treatment, the better the outcomes. Results of a recent Behavioral Risk Factor Survey (BRFSS) survey showed that public recognition of major MI symptoms and the need for immediate action by calling 9-1-1 was poor and that there is a need for increased public health efforts. Patient delay accounts for most of the lag in treatment.

Data from the National MI Registry show that the greatest disparity for delay in treatment exists among the racial and ethnic groups of American Indian/Alaskan Native group. The NATIVE study shows that rural American Indians presenting with acute MI have marked delays in time to treatment (12% of patients waited between 12-24 hours and 23% waited more than 24 hours to present) thus, limiting treatment options; the primary cause of the delay was due to patient misunderstandings about the symptoms of MI.

The project will contribute to our understanding of AI/AN populations and their perceptions of and misconceptions about MI and the need for immediate treatment. Information gained from this project will provide the details needed to tailor message(s) for this population. The agency will develop culturally-tailored messages for native populations that will contribute to the existing National Heart Attack program (NHLBI) “Act in Time” messages.

There will be a minimum of 84 key informant interviews and 16 persons in the two focus groups. The key informants will consist of healthcare providers, community leader, and persons who have had an MI. Key informants will be identified for interviews through a clustered, multistate snowball sampling technique. In recognition of the tribal diversity; study participants will represent three AI/AN regions of the U.S.: Great Plains identified by the Aberdeen Area Indian Health Service area, the South West distinct to the Phoenix, Albuquerque and Tucson areas and Alaskan Natives. Interview participants will have established relationships with tribes or are members of tribes, and have a good sense of cultural health beliefs.

The healthcare provider group will consist of nomination by the Indian Health Service Chief Medical Officer (IHSCMO), who will nominate 3 MD/NP's or PA's and 3 nurses in each region. The participating emergency care providers will each be asked to nominate 2 providers from a cardiology clinic (cardiologists or cardiac nurses) and/or a pre-hospital (EMT/Paramedic) provider. The 6 original from each region will subtotal to 18 emergency care providers plus the 2 individuals they each nominate will subtotal to 36 from each region, a total of 54 pre-hospital and cardiology providers (medical providers) key informant interviews covering all three regions.

The community key informants will consist of 3 tribal health directors who will nominate 3 community key informants from each region, who will then each nominate 2 additional community members to be interviewed for a sample of 30 community key informants.

The individual key informant interviews of the group of patients who have had an MI or have a high risk of MI, nominated by the physicians, nurses and community members will be asked to nominate individuals whom they know have had or are at risk for a heart attack. The medical providers and community members asked to participate in the key informant interviews will equal a minimum of approximately 27 health providers, 15 community members or 42 key informant interview, each contacts 2 individuals, a minimum of 168 respondents to the survey.

After the key informant interviews have been completed and analyzed there will be two community focus groups each comprised of 8 to 10 participants from all three regions held. The first involving patients who have had an MI and the second focus group will involve community members at risk for MIs.

There are no costs to the respondent except their time to participate in the survey.

Estimated Annualized Burden Hours
Respondents | Number of respondents | No. of responses per respondent | Average burden per response (in hrs.) | Total burden (in hours)
Healthcare providers | 54 | 1 | 1 | 54
Community leaders | 30 | 1 | 1 | 30
Community members interviews | 168 | 1 | 1 | 168
(2) Community member focus group retreats | 20 | 1 | 8 | 160
Total |  |  |  | 412

Dated: July 25, 2007.
Maryam I. Daneshvar,
Acting Reports Clearance Officer, Centers for Disease Control and Prevention.

[FR Doc. E7-14703 Filed 7-30-07; 8:45 am]

BILLING CODE 4163-18-P